COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products and services from the Procurement List previously furnished by such agencies.

DATES: Effective Date: August 7, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 3/25/2016 (81 FR 16145-16146) and 6/3/2016 (81 FR 35749-35750), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

MR 10739—Herb Stripper, Includes Shipper 20739

MR 10732—Hershey's Lava Cake Maker, Shipper 20732

MR 10733—Reese's Lava Cake Maker, Shipper 20732

Mandatory for: Military commissaries and exchanges in accordance with the Code of Federal Regulations, Chapter 51, 51-6.4

Mandatory Source(s) of Supply: Winston-Salem Industries for the Blind, Inc., Winston-Salem, NC

Contracting Activity: Defense Commissary Agency

Distribution: C-List

NSN(s)—Product Name(s):

7220-00-NSH-0022—Mat, Floor, Chair, 45″ x 53″ x .110″, w/20″ x 12″ Lip

7220-00-NSH-0023—Mat, Floor, Chair, 45″ x 53″ x .110″, w/25″ x 12″ Lip

7220-00-NSH-0024—Mat, Floor, Chair, 46″ x 60″ x .110″, w/25″ x 12″ Lip

7220-00-NSH-0025—Mat, Floor, Chair, 46″ x 60″ x .110″, Without Lip

7220-00-NSH-0026—Mat, Floor, Chair, 60″ x 60″ x .110″, Without Lip

7220-00-NSH-0030—Mat, Floor, Chair, 36″ x 48″ x .150″, w/20″ x 12″ Lip

7220-00-NSH-0031—Mat, Floor, Chair, 45″ x 53″ x .150″, w/25″ x 12″ Lip

7220-00-NSH-0032—Mat, Floor, Chair, 45″ x 53″ x .150″, w/20″ x 12″ Lip

7220-00-NSH-0033—Mat, Floor, Chair, 45″ x 53″ x .220″, w/20″ x 12″ Lip

7220-00-NSH-0035—Mat, Floor, Chair, 46″ x 60″ x .150″, Without Lip

7220-00-NSH-0036—Mat, Floor, Chair, 46″ x 60″ x .150″, w/25″ x 12″ Lip

7220-00-NSH-0038—Mat, Floor, Chair, 46″ x 60″ x .220″, w/25″ x 12″ Lip

7220-00-NSH-0039—Mat, Floor, Chair, 46″ x 60″ x .220″, Without Lip

7220-00-NSH-0040—Mat, Floor, Chair, 60″ x 60″ x .150″, Without Lip

Mandatory for: Total Government Requirement

Mandatory Source(s) of Supply: Northeastern Michigan Rehabilitation and Opportunity Center (NEMROC), Alpena, MI

Contracting Activity: General Services Administration, Fort Worth, TX

Distribution: A-List

Service

Service Type: Base Supply Center

Mandatory for: US Army, Walter Reed Army Institute of Research, Silver Spring, MD

Mandatory Source(s) of Supply: Industries for the Blind, Inc., West Allis, WI

Contracting Activity: Dept of the Army, W4PZ USA MED RSCH ACQUIS ACT

Deletions

On 6/3/2016 (81 FR 35749-35750), 6/10/2016 (81 FR 37581-37582), and 6/17/2016 (81 FR 39630), the Committee for Purchase From People Who Are Blind or Severely Disabled published notices of proposed deletions from the Procurement List.

After consideration of the relevant matter presented, the Committee has determined that the product(s) and/or service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 305—Melamine Dinner Plate

MR 306—Melamine Fruit Plate

MR 307—21oz Melamine Tumbler

MR 308—Bamboo Placemat

MR 1121—Bag, Storage, Vacuum Sealed, Club Pack

MR 1130—4-Section Tray, Holiday, Melamine

MR 1131—Serving Tray, Holiday, Melamine 18″ x 13″

MR 1132—Serving Bowl, Holiday, Melamine

MR 1135—Set, Spreader, 4Pc

MR 1150—Set, Mold, Cupcake, Red, Giant Cupcake, 3pc

MR 1151—Set, Pan, Bake, Perfect Brownie Pan, 3pc

MR 1152—Set, Pasta Cooker, Blue, Pasta Express, 7pc

MR 1153—Basket, Cooking, Steel, Multipurpose

MR 1155—Glove, Oven, Flexi

MR 1156—Device, Cutting, Multi-Use, Green, Snip It

MR 1157—Set, Knife and Peeler, Ceramic, Kitchen Samurai

MR 1158—Set, Meatloaf Pan and Aerated Tray

MR 1168—Carrier, Cake and Cupcake, Collapsible

MR 1169—Set, Bowl and Lid, Blue, 4 Piece

Mandatory Source(s) of Supply: Industries for the Blind, Inc., West Allis, WI

Contracting Activity: Defense Commissary Agency

NSN(s)—Product Name(s):

MR 1053—Mop, Sponge, Triple Action

MR 1083—Mop, Ratchet, Twist Action, Cotton

MR 1084—Refill, Mop, Ratchet, Twist Action, Cotton

Mandatory Source(s) of Supply: LC Industries, Inc., Durham, NC

Contracting Activity: Defense Commissary Agency

NSN(s)—Product Name(s): 7045-01-599-5293—Privacy Filter, Netbooks, 10.1 Widescreen

Mandatory Source(s) of Supply: Wiscraft, Inc., Milwaukee, WI

Contracting Activity: General Services Administration, New York, NY

NSN(s)—Product Name(s): 7045-01-570-8906—Privacy Filter, Notebook, 12.1″

Mandatory Source(s) of Supply: Wiscraft, Inc., Milwaukee, WI

Contracting Activities: Department of Veterans Affairs, National Acquisition Center, General Services Administration, New York, NY

NSN(s)—Product Name(s): 2510-01-063-3893—Floorboard, Wood

Mandatory Source(s) of Supply: UNKNOWN

Contracting Activity: Defense Logistics Agency Land and Maritime

NSN(s)—Product Name(s): 6530-01-505-0214—Bottle, Prescription, 200cc

Mandatory Source(s) of Supply: Alphapointe, Kansas City, MO

Contracting Activity: Department of Veterans Affairs

Services

Service Type: Switchboard Operation Service

Mandatory for: US Air Force, Patrick Air Force Base, Patrick AFB, FL

Mandatory Source(s) of Supply: Brevard Achievement Center, Inc., Rockledge, FL

Contracting Activity: Dept of the Air Force, FA2521 45 CONS LGC

Service Type: Switchboard Operation Service

Mandatory for: Keesler Air Force Base, Keesler AFB, MS

Mandatory Source(s) of Supply: Mississippi Goodworks, Inc., Gulfport, MS

Contracting Activity: Dept of the Air Force, FA7014 AFDW PK

Barry S. Lineback,
Director, Business Operations.

[FR Doc. 2016-16230 Filed 7-7-16; 8:45 am]

BILLING CODE 6353-01-P